FEDERAL MARITIME COMMISSION

Ocean Transportation Intermediary License Revocation

The Federal Maritime Commission hereby gives notice that the following Ocean Transportation Intermediary license has been revoked pursuant to section 19 of the Shipping Act of 1984 (46 U.S.C. app. 1718) and the regulations of the Commission pertaining to the licensing of Ocean Transportation Intermediaries, effective on the corresponding date shown below:

License Number: 15865N.

Name: Davis International Trade and Transportation Organization, Inc. dba Ditto.

Address: 6610 Tributary Street, Suite 200, Baltimore, MD 21224.

Date Revoked: May 10, 2000.

Reason: Surrendered license voluntarily.

Sandra L. Kusumoto,
Director, Bureau of Consumer Complaints and Licensing.

[FR Doc. 01-27399 Filed 10-30-01; 8:45 am]

BILLING CODE 6730-01-P